DEPARTMENT OF LABOR

Employment and Training Administration

[TA-W-52,593]

Implementation Strategies, Inc., Brooklyn, NY; Notice of Termination of Investigation

Pursuant to section 221 of the Trade Act of 1974, as amended, an investigation was initiated on August 18, 2003, in response to a petition filed by a company official on behalf of workers at Implementation Strategies, Inc., Brooklyn, New York.

The petitioner has requested that the petition be withdrawn. Consequently, the investigation has been terminated.

Signed at Washington, DC this 26th day of August 2003.
Richard Church,
Certifying Officer, Division of Trade Adjustment Assistance.

[FR Doc. 03-24713 Filed 9-29-03; 8:45 am]

BILLING CODE 4510-30-P